DEPARTMENT OF EDUCATION

Office of Elementary and Secondary Education; Office of Postsecondary Education; Office of Special Education and Rehabilitative Services; Overview Information; Grant Notices; Notice Inviting Applications for New Awards for Fiscal Year (FY) 2008

Correction

1. In notice document E8-10106 beginning on page 25688 in the issue of Wednesday, May 7, 2008, in every instance “4:30 p.m.” appears, it should read “4:30:00 p.m.”.

2. In notice document E8-10520 beginning on page 26970 in the issue of Monday, May 12, 2008, in every instance “4:30 p.m.” appears, it should read “4:30:00 p.m.”.

3. In notice document E8-10669 beginning on page 27515 in the issue of Tuesday, May 13, 2008, in every instance “4:30 p.m.” appears, it should read “4:30:00 p.m.”.

4. In notice document E8-10681 beginning on page 27518 in the issue of Tuesday, May 13, 2008, in every instance “4:30 p.m.” appears, it should read “4:30:00 p.m.”.

5. In notice document E8-10680 beginning on page 27523 in the issue of Tuesday, May 13, 2008, in every instance “4:30 p.m.” appears, it should read “4:30:00 p.m.”.

6. In notice document E8-10777 beginning on page 27812 in the issue of Wednesday, May 14, 2008, in every instance “4:30 p.m.” appears, it should read “4:30:00 p.m.”.

7. In notice document E8-12118 beginning on page 31074 in the issue of Friday, May 30, 2008, in every instance “4:30 p.m.” appears, it should read “4:30:00 p.m.”.

8. In notice document E8-12263 beginning on page 31442 in the issue of Monday, June 2, 2008, in every instance “4:30 p.m.” appears, it should read “4:30:00 p.m.”.

9. In notice document E8-12511 beginning on page 31835 in the issue of Wednesday, June 4, 2008, in every instance “4:30 p.m.” appears, it should read “4:30:00 p.m.”.

10. In notice document E8-12512 beginning on page 31840 in the issue of Wednesday, June 4, 2008, in every instance “4:30 p.m.” appears, it should read “4:30:00 p.m.”.

11. In notice document E8-12633 beginning on page 32006 in the issue of Thursday, June 5, 2008, in every instance “4:30 p.m.” appears, it should read “4:30:00 p.m.”.

12. In notice document E8-12634 beginning on page 32016 in the issue of Thursday, June 5, 2008, in every instance “4:30 p.m.” appears, it should read “4:30:00 p.m.”.

[FR Doc. Z8-10106 etc. Filed 6-17-08; 8:45 am]

BILLING CODE 1505-01-D

DEPARTMENT OF JUSTICE

Antitrust Division

Notice Pursuant to the National Cooperative Research and Production Act of 1993—Coopertave Research Group on Clean Diesel V

Correction

In notice document E8-12529 appearing on page 32051 in the issue of Thursday, June 5, 2008, make the following correction:

On page 32051, in the first column, in the first paragraph, in the twenty-first line, “EP America” should read “BP America”.

[FR Doc. Z8-12529 Filed 6-17-08; 8:45 am]

BILLING CODE 1505-01-D

ENVIRONMENTAL PROTECTION AGENCY

[EPA-R09-OAR-2008-0378; FRL-8566-4]

Adequacy Status of Motor Vehicle Budgets in Submitted South Coast 8- Ozone and PM2.5 Attainment and Reasonable Further Progress Plans for Transportation Conformity Purposes; California

Correction

In notice document E8-10901 beginning on page 28110 in the issue of Thursday, May 15, 2008, make the following correction:

On page 28111, in the table “ADEQUATE 8-HOUR OZONE...”, in the third column, “32” should read “232”.

[FR Doc. Z8-10901 Filed 6-17-08; 8:45 am]

BILLING CODE 1505-01-D